DEPARTMENT OF HEALTH AND HUMAN SERVICES

Health Resources and Services Administration

Agency Information Collection Activities: Two-Year Extension of an Existing Information Collection; Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: Performance Report for Grants and Cooperative Agreements (OMB No. 0915-0061)—Revision

The HRSA Bureau of Health Professions (BHPr) Performance Report for Grants and Cooperative Agreements is used to report grantee activities for Title VII and VIII health professions and nursing education and training programs. The reporting system measures the grantee's success in meeting (1) the objectives of the grant project, and (2) the cross-cutting outcomes developed for the Bureau of Health Professions' Title VII and VIII health professions and nursing education and training programs. The reporting system has two parts: Part I of the performance report is designed to collect information on activities specific to a given program and Part II, the core performance measures, collects data on overall project performance related to the Bureau's strategic goals, objectives, outcomes, and indicators. Progress will be measured based on the objectives of the grant project, and outcome measures and indicators developed by the Bureau to meet requirements of the Government Performance and Results Act (GPRA).

The Bureau will be making minor changes to the previously approved information collection request. First, a couple of tables in Parts I and II have been simplified to eliminate collecting multiple race combinations for two or more races. And second, a new measure will be added to collect outcome data on the State Primary Care Offices (PCOs) program.

The estimated annual burden is as follows:

Report | Number of respondents | Responses per respondent | Total responses | Hours per response | Total burden hours
BHPr Performance Report | 1,000 | 1 | 1,000 | 24 | 24,000
Total | 1,000 |  | 1,000 |  | 24,000

E-mail comments to paperwork@hrsa.gov or mail the HRSA Reports Clearance Officer, Room 10-33, Parklawn Building, 5600 Fishers Lane, Rockville, MD 20857. Written comments should be received within 60 days of this notice.

Dated: June 24, 2010.
Sahira Rafiullah,
Director, Division of Policy and Information Coordination.

[FR Doc. 2010-15830 Filed 6-29-10; 8:45 am]

BILLING CODE 4165-15-P